OVERSEAS PRIVATE INVESTMENT CORPORATION

September 15, 2008 Public Hearing

OPIC's Sunshine Act notice of its Public Hearing in Conjunction with each Board meeting was published in the Federal Register (Volume 73, Number 173, Page 51861) on September 5, 2008. No requests were received to provide testimony or submit written statements for the record; therefore, OPIC's public hearing scheduled for 2 p.m., September 15, 2008 in conjunction with OPIC's September 18, 2008 Board of Directors meeting has been cancelled.

FOR FURTHER INFORMATION CONTACT: Information on the hearing cancellation may be obtained from Connie M. Downs at (202) 336-8438, via facsimile at (202) 218-0136, or via e-mail at Connie.Downs@opic.gov.

Dated: September 12, 2008.
Connie M. Downs,
OPIC Corporate Secretary.

[FR Doc. E8-21732 Filed 9-12-08; 4:15 pm]

BILLING CODE 3210-01-P